DEPARTMENT OF TRANSPORTATION

[Docket No. DOT-OST-2004-16951]

Agency Request for Renewal of a Previously Approved Information Collection: Aircraft Accident Liability Insurance

AGENCY: Office of the Secretary, OST, Department of Transportation (DOT).

ACTION: Notice and request for comments.

SUMMARY: The Department of Transportation (DOT) invites public comment about the agency's intention to request the Office of Management and Budget (OMB) approval to renew an information collection. The collection involves information from U.S. air carriers' policies of insurance for aircraft accident bodily injury and property damage liability and their filings of a two-page form. The information collected is necessary for DOT to determine whether air carriers meet DOT criteria for insurance in 14 CFR part 205. We are required to publish this notice in the Federal Register by the Paperwork Reduction Act of 1995, Public Law 104-13.

DATES: Written comments should be submitted by April 27, 2026.

ADDRESSES: You may submit comments identified by Docket Number DOT-OST-2004-16951 through one of the following methods:

• Federal eRulemaking Portal: http://www.regulations.gov. Follow the online instructions for submitting comments.

• Mail or Hand Delivery: Docket Operations, U.S. Department of Transportation, 1200 New Jersey Avenue SE, West Building, Room W58-213, Washington, DC 20590, between 9 a.m. and 5 p.m., Monday through Friday, except on Federal holidays.

FOR FURTHER INFORMATION CONTACT: Barbara Snoden, (202) 366-4834 (Voice) or barbara.snoden@dot.gov (Email), Office of Aviation Analysis, Office of the Secretary, U.S. Department of Transportation, 1200 New Jersey Avenue SE, Washington, DC 20590.

SUPPLEMENTARY INFORMATION:

OMB Control Number: 2106-0030.

Title: Aircraft Accident Liability Insurance, 14 CFR part 205.

Type of Request: Renewal of a previously approved collection.

Abstract: 14 CFR part 205 contains the minimum requirements for air carrier accident liability insurance to protect the public from losses and directs that certificates evidencing appropriate coverage must be filed with the Department.

Respondents: U.S. and foreign air carriers.

Estimated Number of Respondents: 1,713.

Estimated Total Burden on Respondents: 599 hours.

Comments are invited on: You are asked to comment on any aspect of this information collection, including (a) whether the proposed collection of information is necessary for the Office of the Secretary's performance; (b) the accuracy of the estimated burden; (c) ways for Office of the Secretary to enhance the quality, utility and clarity of the information to be collected; and (d) ways that the burden could be minimized without reducing the quality of the collected information. The agency will summarize and/or include your comments in the request for OMB's clearance of this information collection.

Authority: The Paperwork Reduction Act of 1995; 44 U.S.C. Chapter 35, as amended; and 49 CFR 1:48.

Issued in Washington, DC, on February 20, 2026.
Lauralyn Jean Remo Temprosa,
Associate Director, Air Carrier Fitness Division, Office of Aviation Analysis.

[FR Doc. 2026-03672 Filed 2-23-26; 8:45 am]

BILLING CODE 4910-9X-P